ENVIRONMENTAL PROTECTION AGENCY

[FRL-9920-43-OARM]

Senior Executive Service Performance Review Board; Membership

AGENCY: U.S. Environmental Protection Agency.

ACTION: Notice.

SUMMARY: Notice is hereby given of the membership of the U.S. Environmental Protection Agency Performance Review Board for 2014.

FOR FURTHER INFORMATION CONTACT: Karen D. Higginbotham, Director, Executive Resources Division, 3606A, Office of Human Resources, Office of Administration and Resources Management, U.S. Environmental Protection Agency, 1200 Pennsylvania Avenue NW., Washington, DC 20460, (202) 564-7287.

SUPPLEMENTARY INFORMATION: Section 4314(c)(1) through (5) of Title 5, U.S.C., requires each agency to establish in accordance with regulations prescribed by the Office of Personnel Management, one or more SES performance review boards. This board shall review and evaluate the initial appraisal of a senior executive's performance by the supervisor, along with any recommendations to the appointment authority relative to the performance of the senior executive.

Members of the 2014 EPA Performance Review Board are:

Richard Albright, Director, Office of Environmental Cleanup, Region 10

Amy Battaglia, Director, Office of Program Accountability and Resources Management, Office of Research and Development

Denise Benjamin-Sirmons, Director, Office of Diversity, Advisory Committee Management and Outreach, Office of Administration and Resources Managment

Jerry Blancato, Director, Office of Science Information Management, Office of Research and Development

David Bloom, Acting Chief Financial Officer, Office of the Chief Financial Officer

Jeanne Brisken, Research Program Manager, Office of Research and Development

Rebecca Clark, Deputy Director, Office of Ground Water and Drinking Water, Office of Water

Barbara A. Cunningham, Deputy Director, Office of Pollution Prevention and Toxics (Management)

Rafael DeLeon, Deputy Director, Office of Site Remediation Enforcement, Office of Enforcement and Compliance Assurance

David Dix, Director, Office of Science Coordination and Policy, Office of Chemical Safety and Pollution Prevention

Alfred P. Dufour, Senior Research Microbiologist, Office of Research and Development

Sarah Dunham, Director, Office of Atmospheric Programs, Office of Air and Radiation

William Early, Deputy Regional Administrator, Region 3

Carl Edlund, Director, Superfund Division, Region 6

Alan Farmer, Director, Resource Conservation and Recovery Act Division, Region 4

John Filippelli, Director, Clean Air and Sustainability Division, Region 2

Karen Flournoy, Director, Water, Wetlands and Pesticides Division, Region 7

Michael Flynn, Director, Office of Radiation and Indoor Air, Office of Air and Radiation

Joyce Frank, Principal Deputy Associate Administrator for Congressional and Intergovernmental Relations, Office of the Administrator

James Giattina, Director, Water Management Division, Region 4

Nanci E. Gelb, Acting Assistant Administrator, Office of Administration and Resources Managment

Velveta Golightly-Howell, Director, Office of Civil Rights, Office of the Administrator

Mark Hague, Acting Deputy Chief Financial Officer, Office of the Chief Financial Officer

Karen D. Higginbotham (Ex-Officio), Director, Executive Resources Division, Office of Human Resources, Office of Administration and Resources Management

W. Barnes Johnson, Director, Office of Resource Conservation and Recovery, Office of Solid Waste and Emergency Response

Richard Karl, Director, Superfund Division, Region 5

Susan Kantrowitz (Ex-Officio), Director, Office of Human Resources, Office of Administration and Resources Management

Michael Kenyon, Assistant Regional Administrator for Administration and Resources Management, Region 1

Jeff Lape, Deputy Director, Office of Science and Technology, Office of Water

David Lloyd, Director, Office of Brownfields and Land Revitalization, Office of Solid Waste and Emergency Response and Compliance Assurance

Robert McKinney, Senior Agency Information Security Officer, Office of Environmental Information

Kevin Minoli, Principal Deputy General Counsel, Office of General Counsel

Rebecca Moser, Deputy Director, Office of Information Collection, Office of Environment Information

Cheryl Newton, Assistant Regional Administrator for Resources Management, Region 5

Jane Nishida, Principal Deputy Assistant Administrator, Office of International and Tribal Affairs

Aracely Nunez-Mattocks, Chief of Staff, Office of the Inspect Office of Inspector General

Michelle Pirzadeh, Deputy Administrator, Region 10

Carol Ann Siciliano, Associate General Counsel, Cross-Cutting Issues, Office of General Counsel

John Reeder, Deputy Chief of Staff, Office of the Administrator

Allyn Stern, Regional Counsel, Region 10, Office of Enforcement and Compliance Assurance

Alexis Strauss-Hacker, Deputy Regional Administrator, Region 9

Kevin Teichman, Senior Science Advisor, Office of Research and Development

Ramona Trovato, Associate Assistant Administrator for Research and Development, Office of Research and Development

Donna Vizian, Acting Principal Deputy Assistant Administrator, Office of Administration and Resources Management

Jeffery Wells, Deputy Director, Office of Information Analysis and Access, Office of Environmental Information

Christopher Zarba, Director, Science Advisory Board Staff Office, Office of the Administrator

Dated: December 3, 2014.
Donna Vizian,
Acting Assistant Administrator, Administration and Resources Management.

[FR Doc. 2014-29422 Filed 12-12-14; 8:45 am]

BILLING CODE 6560-50-P